NATIONAL FOUNDATION ON THE ARTS AND THE HUMANITIES

National Endowment for the Arts; Arts Advisory Panel

Pursuant to Section 10(a)(2) of the Federal Advisory Committee Act (Pub. L. 92-463), as amended, notice is hereby given that eight meetings of the Arts Advisory Panel to the National Council on the Arts will be held at the Nancy Hanks Center, 1100 Pennsylvania Avenue, NW., Washington, DC, 20506 as follows (ending times are approximate):

Folk & Traditional Arts (application review): May 31-June 1, 2007 in Room 716. This meeting, from 9 a.m. to 5:45 p.m. on May 31 and from 9 a.m. to 4 p.m. on June 2, will be closed.

Media Arts (application review): June 4-6, 2007 in Room 716. A portion of this meeting, from 10:30 a.m. to 11:30 a.m. on June 6, will be open to the public for a policy discussion. The remainder of the meeting, from 9 a.m. to 5:45 p.m. on June 4, from 9 a.m. to 6 p.m. on June 5, and from 9 a.m. to 10:30 a.m. and from 11:30 a.m. to 1 p.m. on June 6, will be closed.

Musical Theater (application review): June 12-13, 2007 in Room 714. A portion of this meeting, from 1 p.m. to 2 p.m. on June 13, will be open to the public for a policy discussion. The remainder of the meeting, from 9 a.m. to 5 p.m. on June 12 and from 9 a.m. to 1 p.m. and 2 p.m. to 5 p.m. on June 13, will be closed.

Local Arts Agencies (application review): June 13-14, 2007 in Room 730. This meeting, from 9 a.m. to 5:30 p.m. on June 13 and from 8:45 a.m. to 12 p.m. on June 14, will be closed.

Presenting (application review): June 19, 2007 in Room 716. This meeting, from 9 a.m. to 6:15 p.m., will be closed.

Presenting (application review): June 20, 2007 in Room 716. this meeting, from 9 a.m. to 4 p.m., will be closed.

Theater (application review): June 19-22, 2007 in Room 714. A portion of this meeting, from 11:30 a.m. to 12:30 p.m. on June 22, will be open to the public for a policy discussion. The remainder of the meeting, from 9 a.m. to 5:30 p.m. on June 19-21 and from 9 a.m. to 11:30 a.m. and 12:30 p.m. to 3 p.m. on June 22, will be closed.

Design (application review): June 21-22, 2007 in Room 730. This meeting, from 9 a.m. to 5:30 p.m. on June 21 and from 9 a.m. to 12 p.m. on June 22, will be closed.

The closed portions of meetings are for the purpose of Panel review, discussion, evaluation, and recommendations on financial assistance under the National Foundation on the Arts and the Humanities Act of 1965, as amended, including information given in confidence to the agency. In accordance with the determination of the Chairman of February 21, 2007, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC, 20506, or call 202/682-5691.

Dated: May 8, 2007.
Kathy Plowitz-Worden,
Panel Coordinator, Panel Operations, National Endowment for the Arts.

[FR Doc. E7-9182 Filed 5-11-07; 8:45 am]

BILLING CODE 7537-01-P